DEPARTMENT OF AGRICULTURE

Rural Utilities Service

Tri-State Generation and Transmission Association, Inc.; Finding of No Significant Impact

AGENCY: Rural Utilities Service, USDA.

ACTION: Notice of finding of no significant impact.

SUMMARY: Notice is hereby given that the Rural Utilities Service (RUS) has made a Finding of No Significant Impact (FONSI) with respect to the potential environmental impacts related to the construction, operation, and maintenance of a 230 kV transmission line and associated facilities. Tri-State Generation and Transmission Association, Inc. (Tri-State), of Westminster, Colorado, is proposing to construct the project. The transmission line will extend from Walsenburg, Colorado, to an area near Gladstone, New Mexico. RUS will provide financing assistance for the project.

FOR FUTHER INFORMATION CONTACT: Dennis E. Rankin, Environmental Protection Specialist, RUS, Engineering and Environmental Staff, Stop 1571, 1400 Independence Avenue, SW, Washington, DC 20250-1571, telephone: (202) 720-1953 or e-mail: drankin@rus.usda.gov.; or Karl Myers, Tri-State, P.O. Box 33695, Denver, Colorado 80233, telephone: (303) 452-6111 or e-mail: kmyers@tristategt.org.

SUPPLEMENTARY INFORMATION: The project will be approximately 115 miles in length and extend from Tri-State's existing Walsenburg Substation located at Walsenburg, Colorado, and interconnect to a proposed substation site near Gladstone, New Mexico. Facilities will be located in Huerfano and Las Animas Counties, Colorado, and Colfax County, New Mexico.

Alternative Corridor 2 was identified in the Environmental Assessment as the preferred corridor. The northern section of the preferred corridor was subsequently modified based on additional public input as a result of the local permitting process in Las Animas County, Colorado. Based on its environmental assessment of the proposed project, RUS has concluded that the construction, operation and maintenance of the project will not have a significant impact on the quality of the human environment. Therefore, RUS will not prepare an environmental impact statement for this project.

Copies of the FONSI have been sent to Federal, State, and local agencies and the public who have previously requested a copy. The FONSI can also be reviewed at libraries located in communities within the project area and at offices of San Isabel Electric Association in Pueblo, Walsenburg, and Trinidad, Colorado; Springer Electric Cooperative, Inc., in Springer, New Mexico; and Southwestern Electric Cooperative, Inc., in Clayton, New Mexico.

Dated: August 23, 2000.
Blaine D. Stockton,
Assistant Administrator, Electric Program.

[FR Doc. 00-22007 Filed 8-31-00; 8:45 am]

BILLING CODE 3410-15-P